ENVIRONMENTAL PROTECTION AGENCY

40 CFR Part 52

[EPA-R09-OAR-2014-0861, FRL-9921-49-Region 9]

Promulgation of Air Quality Implementation Plans; Arizona; Regional Haze Federal Implementation Plan; Reconsideration

AGENCY: Environmental Protection Agency.

ACTION: Proposed rule.

SUMMARY: The Environmental Protection Agency (EPA) is proposing to revise provisions of the Arizona Regional Haze (RH) Federal Implementation Plan (FIP) applicable to the Nelson Lime Plant. In response to a request for reconsideration from the plant's owner, Lhoist North America of Arizona, Inc. (LNA), we propose to replace the control technology demonstration requirements for nitrogen oxides (NOX) applicable to Kilns 1 and 2 at the Nelson Lime Plant with a series of revised recordkeeping and reporting requirements. Lastly, we are proposing a correction in the regulatory language of the final rule where a table listing the pollution emission limits for NOX and sulfur dioxide (SO2) at each kiln was misprinted. We are seeking comment on each of these proposed actions.

DATES: Written comments must be submitted on or before February 27, 2015. Requests for a public hearing must be received on or before January 28, 2015.

ADDRESSES: See the SUPPLEMENTARY INFORMATION section for further instructions on where and how to learn more about this proposal, request a public hearing, or submit comments.

FOR FURTHER INFORMATION CONTACT: Thomas Webb, U.S. EPA, Region 9, Planning Office, Air Division, Air-2, 75 Hawthorne Street, San Francisco, CA 94105. Thomas Webb can be reached at telephone number (415) 947-4139 and via electronic mail at webb.thomas@epa.gov.

SUPPLEMENTARY INFORMATION: Throughout this document, “we,” “us,” and “our” refer to EPA.

Table of Contents

I. General Information

II. Background

III. FIP Revision for Nelson Lime Plant

IV. EPA's Proposed Action

V. Statutory and Executive Order Reviews

I. General Information

A. Definitions

For the purpose of this document, we are giving meaning to certain words or initials as follows:

• The words or initials Act or CAA mean or refer to the Clean Air Act, unless the context indicates otherwise.

• The initials ADEQ mean or refer to the Arizona Department of Environmental Quality.

• The words Arizona and State mean the State of Arizona.

• The initials BART mean or refer to Best Available Retrofit Technology.

• The initials CAA mean or refer to the Clean Air Act.

• The term Class I area refers to a mandatory Class I Federal area.¹

¹ Although states and tribes may designate as Class I additional areas which they consider to have visibility as an important value, the requirements of the visibility program set forth in section 169A of the CAA apply only to “mandatory Class I Federal areas.”

• The initials CBI mean or refer to Confidential Business Information.

• The initials CEMS mean or refer to continuous emission monitoring system or systems.

• The words EPA, we, us or our mean or refer to the United States Environmental Protection Agency.

• The initials FIP mean or refer to Federal Implementation Plan.

• The initials LNA mean or refer to LNA North America of Arizona, Inc.

• The initials MMBtu mean or refer to million British thermal units.

• The initials NOX mean or refer to nitrogen oxides.

• The initials RH mean or refer to regional haze.

• The initials RHR mean or refer to EPA's Regional Haze Rule.

• The initials SIP mean or refer to State Implementation Plan.

• The initials SNCR mean or refer to selective non-catalytic reduction.

• The initials SO2 mean or refer to sulfur dioxide.

B. Docket

The proposed action relies on documents, information, and data that are listed in the index on http://www.regulations.gov under docket number EPA-R09-OAR-2014-0861. Although listed in the index, some information is not publicly available (e.g., Confidential Business Information (CBI)). Certain other material, such as copyrighted material, is publicly available only in hard copy form. Publicly available docket materials are available either electronically at http://www.regulations.gov or in hard copy at the Planning Office of the Air Division, AIR-2, EPA Region 9, 75 Hawthorne Street, San Francisco, CA 94105. EPA requests that you contact the individual listed in the FOR FURTHER INFORMATION CONTACT section to view the hard copy of the docket. You may view the hard copy of the docket Monday through Friday, 9-5:00 PDT, excluding Federal holidays.

C. Instructions for Submitting Comments to EPA

Written comments must be submitted on or before February 27, 2015. Submit your comments, identified by Docket ID No. EPA-R09-OAR-2014-0861, by one of the following methods:

• Federal Rulemaking portal: http://www.regulations.gov. Follow the on-line instructions for submitting comments.

• Email: webb.thomas@epa.gov.

• Fax: 415-947-3579 (Attention: Thomas Webb).

• Mail, Hand Delivery or Courier: Thomas Webb, EPA Region 9, Air Division (AIR-2), 75 Hawthorne Street, San Francisco, California 94105. Hand and courier deliveries are only accepted Monday through Friday, 8:30 a.m.-4:30 p.m., excluding Federal holidays. Special arrangements should be made for deliveries of boxed information.

EPA's policy is to include all comments received in the public docket without change. We may make comments available online at http://www.regulations.gov, including any personal information provided, unless the comment includes information claimed to be CBI or other information for which disclosure is restricted by statute. Do not submit information that you consider to be CBI or that is otherwise protected through http://www.regulations.gov or email. The http://www.regulations.gov Web site is an “anonymous access” system, which means EPA will not know your identity or contact information unless you provide it in the body of your comment. If you send an email comment directly to EPA, without going through http://www.regulations.gov, we will include your email address as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should not include special characters or any form of encryption, and be free of any defects or viruses.

D. Submitting Confidential Business Information

Do not submit CBI to EPA through http://www.regulations.gov or by email. Clearly mark the part or all of the information that you claim as CBI. For CBI information in a disk or CD-ROM that you mail to EPA, mark the outside of the disk or CD-ROM as CBI and identify electronically within the disk or CD-ROM the specific information that is claimed as CBI. In addition to one complete version of the comment that includes information claimed as CBI, you must submit a copy of the comment that does not contain the information claimed as CBI for inclusion in the public docket. We will not disclose information so marked except in accordance with procedures set forth in 40 CFR part 2.

E. Tips for Preparing Your Comments

When submitting comments, remember to:

• Identify the rulemaking by docket number and other identifying information (e.g., subject heading, Federal Register date, and page number).

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline.

F. Public Hearings

If anyone contacts EPA by January 28, 2015 requesting to speak at a public hearing, EPA will schedule a public hearing and announce the hearing in the Federal Register. Contact Thomas Webb at (415) 947-4139 or at webb.thomas@epa.gov to request a hearing or to determine if a hearing will be held.

II. Background

A. Summary of Statutory and Regulatory Requirements

Congress created a program for protecting visibility in the nation's national parks and wilderness areas in section 169A of the 1977 Amendments to the CAA. This section of the CAA establishes as a national goal the “prevention of any future, and the remedying of any existing, impairment of visibility in mandatory Class I Federal areas which impairment results from man-made air pollution.” ² It also directs states to evaluate the use of retrofit controls at certain larger, often uncontrolled, older stationary sources in order to address visibility impacts from these sources. Specifically, section 169A(b)(2)(A) of the CAA requires states to revise their State Implementation Plans (SIPs) to contain such measures as may be necessary to make reasonable progress towards the natural visibility goal, including a requirement that certain categories of existing major stationary sources built between 1962 and 1977 procure, install, and operate best available retrofit technology (BART) controls. These sources are referred to as “BART-eligible” sources.³ In the 1990 CAA Amendments, Congress amended the visibility provisions in the CAA to focus attention on the problem of regional haze, which is visibility impairment produced by a multitude of sources and activities located across a broad geographic area.⁴ We promulgated the Regional Haze Rule (RHR) in 1999, which requires states to develop and implement SIPs to ensure reasonable progress toward improving visibility in mandatory Class I Federal areas ⁵ by reducing emissions that cause or contribute to regional haze.⁶ Under the Regional Haze Rule (RHR), states are directed to conduct BART determinations for BART-eligible sources that may be anticipated to cause or contribute to any visibility impairment in a Class I area.⁷

² 42 U.S.C. 7491(a)(1).

³ 40 CFR 51.301.

⁴ See CAA section 169B, 42 U.S.C. 7492.

⁵ Areas designated as mandatory Class I Federal areas consist of national parks exceeding 6000 acres, wilderness areas, and national memorial parks exceeding 5000 acres, and all international parks that were in existence on August 7, 1977. 42 U.S.C. 7472(a). When we use the term “Class I area” in this action, we mean a “mandatory Class I Federal area.”

⁶ See generally 40 CFR 51.308.

⁷ 40 CFR 51.308(e).

B. History of FIP BART Determination

The Arizona Department of Environmental Quality (ADEQ) submitted a Regional Haze SIP to EPA on February 28, 2011. EPA promulgated two final rules approving in part and disapproving in part the Arizona RH SIP. The first final rule addressed the State's BART determinations for three power plants (Apache, Cholla, and Coronado).⁸ The second final rule, which addressed the remaining elements of the Arizona RH SIP, included our disapproval of the State's determination that the Nelson Lime Plant was not subject to BART.⁹

⁸ 77 FR 72512 (December 5, 2012).

⁹ 78 FR 46142 (July 30, 2013).

In a third final rule, EPA found that the Nelson Lime Plant was subject to BART and made a BART determination for the plant, as part of the Arizona RH FIP.¹⁰ EPA set BART emission limits for NOX at the Nelson Lime Plant of 3.80 lb/ton of limestone product for Kiln 1 and 2.61 lb/ton of limestone product for Kiln 2 based on a 12-month rolling average; and a combined limit for Kilns 1 and 2 of 3.27 tons of NOX/day on a 30-day rolling average. These limits are consistent with the use of SNCR control technology and represent a 50 percent reduction from baseline emission rates. The FIP also included monitoring, recordkeeping, and reporting requirements, and established a compliance deadline for the final NOX emission limits of September 3, 2017, which is three years from the publication date of the final rule. Finally, we received certain comments alleging that an SNCR control efficiency of 50 percent was unsupported, and that SNCR was capable of achieving control efficiency as high as 80 percent. In responses to these comments in our final rule, we noted that the commenters were unable to provide information indicating that an SNCR control efficiency better than 50 percent was achievable at a lime kiln. As a result, our final rule established NOX emission limits consistent with an SNCR control efficiency of 50 percent. However, in response to these comments, as well as the lack of data regarding the performance of SNCR on lime kilns, the final rule included a series of control technology demonstration requirements for Kiln 1 and Kiln 2 to ensure the optimization of the SNCR systems installed at the Nelson Lime Plant.

¹⁰ 79 FR 52420 (September 3, 2014).

C. Petition for Reconsideration and Stay

LNA submitted a petition to EPA on October 31, 2014, seeking administrative reconsideration and a partial stay of the final rule under CAA section 307(d)(7)(B).¹¹ Specifically, LNA requested that EPA eliminate the control technology demonstration requirements for the Nelson Lime Plant. In an attachment to the petition, LNA provided additional data regarding SNCR performance at lime kilns located at another LNA facility, the O'Neal Lime Plant in Calera, Alabama. In the petition, LNA also requested a stay if EPA did not take action prior to December 31, 2014. LNA requested a stay on the grounds that the control technology demonstration requirements would not provide sufficient time to meet the SO2 and NOX BART emission limits. LNA asserted that the time needed to implement the demonstration requirements, in particular the requirement to collect six months of uncontrolled NOX emission data, would delay the critical path schedule for SNCR installation beyond the compliance date. EPA sent a letter to LNA on November 20, 2014, granting reconsideration of the optimization protocol requirements pursuant to CAA section 307(d)(7)(B).¹² Today's notice of proposed rulemaking constitutes EPA's proposed action on the reconsideration.

¹¹ Letter from Eric Hiser, Jorden Bischoff & Hiser, to Regina McCarthy, EPA (October 31, 2014).

¹² Letter from Jared Blumenfeld, EPA to Eric Hiser, Jorden Bischoff & Hiser (November 20, 2014).

III. FIP Revision for Nelson Lime Plant

A. Summary of FIP Revision

This proposed rule consists of several components: removal of the control technology demonstration requirements, revised recordkeeping and reporting requirements, and an error correction to a table in our September 3, 2014, final rule. This proposed rule does not change any of the emission limits, compliance deadlines, or the compliance determination methods established in the final rule.

B. EPA's Evaluation of Eliminating Control Technology Demonstration Requirements

EPA is proposing to remove the control technology demonstration requirements from the final rule based on information provided in LNA's petition for reconsideration. In particular, in a letter dated October 2, 2014, and enclosed with the petition, LNA provided new data concerning operation of SNCR at another of its facilities, the O'Neal Lime Plant. The O'Neal Lime Plant originally consisted of Kiln 1, but was later expanded through the construction of Kiln 2. In order for the construction of Kiln 2 not to trigger major new source review for NOX emissions, LNA elected to install SNCR on both Kilns 1 and 2 to maintain NOX emissions below thresholds for major new source review. LNA provided information comparing the physical design of the two kilns at the O'Neal Lime Plant with the two kilns at the Nelson Lime Plant. LNA indicated that although the two O'Neal kilns are not identical to the Nelson kilns, O'Neal Kiln 1 is more similar in design to the Nelson kilns than O'Neal Kiln 2. We consider this comparison reasonable. Of the two O'Neal kilns, Kiln 1 is closer in age, physical dimensions, lime production rate, and fuel efficiency to the Nelson kilns than Kiln 2.

The remainder of the October 2, 2014, letter summarizes NOX emission data from specific days of operation at O'Neal Kiln 1 to evaluate the SNCR control efficiency of the kiln. Evaluating the control efficiency involves comparing uncontrolled emission rates with controlled emission rates from Kiln 1. However, uncontrolled NOX emission data for the O'Neal plant are limited, because the facility did not operate with a continuous emission monitoring system (CEMS) for NOX prior to installing SNCR.¹³ As a result, uncontrolled NOX emission data are limited to those periods of time following SNCR installation during which the SNCR system did not operate. LNA provided emission data from six days during which the SNCR did not operate to represent uncontrolled NOX emission rates. NOX emission data from those periods corresponding to hours of SNCR operation were also included as a representation of controlled NOX emission rates. Based on this analysis, the SNCR control efficiency of O'Neal Kiln 1 varied from 42 to 61 percent.

¹³ This is common with older lime and cement plants, and is similar to the situation at the Nelson plant, which does not currently operate NOX CEMS.

This range of control efficiency represents SNCR performance over relatively short-term periods of less than 24 hours. For example, the highest observed control efficiency (61 percent) corresponds to a period ending on December 1, 2011, and consists of a comparison of six hours of uncontrolled emissions with eight hours of controlled emissions. As noted in the final rule in regard to control efficiencies for dry sorbent injection, we do not consider the upper range of short-term control efficiencies necessarily to be sustainable over longer periods, such as on an annual average basis.¹⁴ Therefore, while the emission data provided by LNA indicate that a 61 percent SNCR control efficiency was achievable over short term periods (lasting several hours), we do not necessarily consider 61 percent control efficiency to be achievable over longer averaging periods, such as an annual average or 30-day average. For cement kilns, a source category similar to lime kilns, the highest short-term emission rates can be as much as 25-50 percent greater than the highest annual average or 30-day average emission rates.¹⁵ As a result, given the short-term nature of the emission data indicating a maximum 61 percent SNCR control efficiency, we consider the use of a 50 percent control efficiency on a longer annual average basis to be reasonable for the Nelson kilns.

¹⁴ 79 FR 52439.

¹⁵ For comparison, we have examined the maximum 24-hr average, 30-day average, and annual average emissions for Kiln 4 at the Phoenix Cement Plant (see spreadsheet “Phoenix Cement Kiln 4 NOX Emissions 2005-10 (public).xlsx.” The Phoenix Cement Kiln 4 data illustrate the substantial variability in emission rates from a cement kiln when examining emissions on short-term versus longer-term averaging periods. Given the similarity between lime kilns and cement kilns, we expect similar variability in the short-term versus longer-term emission rates from lime kilns.

Accordingly, we propose to find that the data from the O'Neal kilns are sufficient to establish that an SNCR control efficiency of 50 percent is appropriate for the Nelson kilns for purposes of BART. While we still consider it necessary to ensure that the SNCR system be optimized, we do not consider it necessary for LNA to adhere to the relatively detailed and prescribed procedures contained in the control technology demonstration requirements. Therefore, we are proposing to remove the control technology demonstration requirements included in the final rule, and, as described below, are proposing requirements that will require LNA to report similar information in a less prescribed manner.

C. Revised Recordkeeping and Reporting Requirements

We are proposing several additional reporting and recordkeeping requirements, including a summary of SNCR design and a summary of SNCR debugging and process improvement activities, to replace the control technology demonstration requirements in the FIP for Nelson Lime Plant. As described in III.B above, we consider it necessary to include provisions for SNCR optimization. Given the NOX emission data provided by LNA from the O'Neal Plant indicating that 50 percent SNCR control efficiency has been achieved at a lime kiln, we do not consider it necessary for optimization measures to be as prescriptive and detailed as established in our September 4, 2014, final rule. Specifically, we propose to require LNA to submit a summary of the SNCR design prior to commencing construction of the ammonia injection system at Kilns 1 and 2, including information regarding reagent type, locations selected for reagent injection, reagent injection rate, equipment arrangement, and kiln characteristics. We also propose to require LNA to submit a summary of SNCR debugging and process improvement activities, including a description of each process adjustment performed on the SNCR system, a discussion of whether the adjustment affected the NOX emission rate, a description of the range over which the adjustment was examined, and a discussion of how the adjustment will be reflected or accounted for in kiln operating practices.

D. Error Correction

We are proposing a minor correction to a table printed in our September 3, 2014, final rule at 79 FR 52480. The table, which is codified at 40 CFR 52.145(i)(3)(i) and lists NOX and SO2 limits for the Nelson Plant Kilns, appears with incorrect column labels due to a misprint in the Federal Register. The table appears with the correct labels in the proposed regulatory text that follows this proposed rule.

E. Non-interference With Applicable Requirements

The CAA requires that any revision to an implementation plan shall not be approved by the Administrator if the revision would interfere with any applicable requirement concerning attainment and reasonable further progress or any other applicable requirement of the CAA.¹⁶ Today's proposed revisions would not affect any applicable requirements of the CAA because they would not alter the amount or timing of emission reductions from the Nelson Lime Plant. In particular, the proposed replacement of the control technology demonstration requirements with a series of recordkeeping and reporting requirements would not alter any of the applicable emission limitations, compliance determination methodologies, or compliance deadlines. Therefore, we propose to find that these revisions would comply with CAA section 110(l).

¹⁶ CAA Section 110(l), 42 U.S.C. 7410(l).

IV. EPA's Proposed Action

For the reasons described above, EPA proposes to revise the Arizona Regional Haze FIP to eliminate the control technology demonstration requirements at the Nelson Lime Plant and replace them with additional recordkeeping and reporting requirements. This revision would constitute our action on LNA's Petition for Reconsideration of the FIP.

V. Statutory and Executive Order Reviews

A. Executive Order 12866: Regulatory Planning and Review and Executive Order 13563: Improving Regulation and Regulatory Review

This proposed action is not a “significant regulatory action” under the terms of Executive Order 12866 (58 FR 51735, October 4, 1993) and is therefore not subject to review under Executive Orders 12866 and 13563 (76 FR 3821, January 21, 2011). This proposed rule applies to only one facility and is therefore not a rule of general applicability.

B. Paperwork Reduction Act

This action does not impose an information collection burden under the provisions of the Paperwork Reduction Act, 44 U.S.C. 3501 et seq. Burden is defined at 5 CFR 1320.3(b).

C. Regulatory Flexibility Act

The Regulatory Flexibility Act (RFA) generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

For purposes of assessing the impacts of today's proposed rule on small entities, small entity is defined as: (1) A small business as defined by the Small Business Administration's (SBA) regulations at 13 CFR 121.201; (2) a small governmental jurisdiction that is a government of a city, county, town, school district or special district with a population of less than 50,000; and (3) a small organization that is any not-for-profit enterprise which is independently owned and operated and is not dominant in its field. Pursuant to 13 CFR 121.201, footnote 1, a firm is small if it is in NAICS 327410 (lime manufacturing) and the concern and its affiliates have no more than 500 employees. LNA is affiliated with the LNA Group, which has more than 5,500 employees.¹⁷ Therefore, LNA is not a small business.

¹⁷ http://www.LNA.com/facts-and-figures-LNA-group-2013.

D. Unfunded Mandates Reform Act (UMRA)

Title II of the Unfunded Mandates Reform Act of 1995 (UMRA), 2 U.S.C. 1531-1538, requires Federal agencies, unless otherwise prohibited by law, to assess the effects of their regulatory actions on State, local, and tribal governments and the private sector. Federal agencies must also develop a plan to provide notice to small governments that might be significantly or uniquely affected by any regulatory requirements. The plan must enable officials of affected small governments to have meaningful and timely input in the development of EPA regulatory proposals with significant Federal intergovernmental mandates and must inform, educate, and advise small governments on compliance with the regulatory requirements.

This proposed rule does not contain a Federal mandate that may result in expenditures of $100 million or more for state, local, and tribal governments, in the aggregate, or the private sector in any one year. Thus, this rule is not subject to the requirements of sections 202 or 205 of UMRA.

This proposed rule is also not subject to the requirements of section 203 of UMRA because it contains no regulatory requirements that might significantly or uniquely affect small governments. This proposed rule does not impose regulatory requirements on any government entity.

E. Executive Order 13132: Federalism

This action does not have federalism implications. It will not have substantial direct effects on the states, on the relationship between the national government and the states, or in the distribution of power and responsibilities among the various levels of government, as specified in Executive Order 13132.

In the spirit of Executive Order 13132, and consistent with EPA policy to promote communications between EPA and State and local governments, EPA specifically solicits comment on this proposed action from State and local officials.

F. Executive Order 13175: Consultation and Coordination With Indian Tribal Governments

Under Executive Order 13175 (65 FR 67249, November 9, 2000), EPA may not issue a regulation that has tribal implications, that imposes substantial direct compliance costs, and that is not required by statute, unless the federal government provides the funds necessary to pay the direct compliance costs incurred by tribal governments, or EPA consults with tribal officials early in the process of developing the proposed regulation and develops a tribal summary impact statement.

This proposed rule does not have tribal implications, as specified in Executive Order 13175. It will not have substantial direct effects on tribal governments. Thus, Executive Order 13175 does not apply to this rule. EPA specifically solicits additional comment on this proposed rule from tribal officials.

G. Executive Order 13045: Protection of Children From Environmental Health Risks and Safety Risks

EPA interprets EO 13045 (62 FR 19885, April 23, 1997) as applying only to those regulatory actions that concern health or safety risks, such that the analysis required under section 5-501 of the EO has the potential to influence the regulation. This action is not subject to EO 13045 because it does not establish an environmental standard intended to mitigate health or safety risks. This proposed action addresses regional haze and visibility protection.

H. Executive Order 13211: Actions Concerning Regulations That Significantly Affect Energy Supply, Distribution, or Use

This action is not subject to Executive Order 13211 (66 FR 28355 (May 22, 2001)), because it is exempt under Executive Order 12866.

I. National Technology Transfer and Advancement Act

Section 12(d) of the National Technology Transfer and Advancement Act of 1995 (NTTAA), Public Law 104-113, 12 (10) (15 U.S.C. 272 note) directs EPA to use voluntary consensus standards (VCS) in its regulatory activities unless to do so would be inconsistent with applicable law or otherwise impractical. VCS are technical standards (e.g., materials specifications, test methods, sampling procedures, and business practices) that are developed or adopted by the VCS bodies. The NTTAA directs EPA to provide Congress, through annual reports to OMB, with explanations when the Agency decides not to use available and applicable VCS.

EPA believes that VCS are inapplicable to this action. Today's action does not require the public to perform activities conducive to the use of VCS.

J. Executive Order 12898: Federal Actions To Address Environmental Justice in Minority Populations and Low-Income Populations

Executive Order 12898 (59 FR 7629, February 16, 1994), establishes federal executive policy on environmental justice. Its main provision directs federal agencies, to the greatest extent practicable and permitted by law, to make environmental justice part of their mission by identifying and addressing, as appropriate, disproportionately high and adverse human health or environmental effects of their programs, policies, and activities on minority populations and low- income populations in the United States.

EPA has determined that this proposed rule will not have disproportionately high and adverse human health or environmental effects on minority or low-income populations because it does not change the level of environmental protection for any affected populations.

List of Subjects in 40 CFR Part 52

Environmental protection, Air pollution control, Nitrogen oxides, Particulate matter, Reporting and recordkeeping requirements, Sulfur dioxide, Visibility. Incorporation by Reference.

Authority: 42 U.S.C. 7401 et seq.

Dated: December 29, 2014.
Jared Blumenfeld,
Regional Administrator, EPA Region IX.

Part 52, chapter I, title 40 of the Code of Federal Regulations is proposed to be amended as follows:

PART 52—APPROVAL AND PROMULGATION OF IMPLEMENTATION PLANS

1. The authority citation for part 52 continues to read as follows:

Authority: 42 U.S.C. 7401 et seq.

Subpart D—Arizona

2. Amend § 52.145 by:

a. Revising paragraph (i); and

b. Removing Appendix B to § 52.145—Lime Kiln Control Technology Demonstration Requirements.

The revision reads as follows:

§ 52.145 Visibility protection.

* * * * *

(i) Source-specific federal implementation plan for regional haze at Nelson Lime Plant—

(1) Applicability. This paragraph (i) applies to the owner/operator of the lime kilns designated as Kiln 1 and Kiln 2 at the Nelson Lime Plant located in Yavapai County, Arizona.

(2) Definitions. Terms not defined in this paragraph (i)(2) shall have the meaning given them in the Clean Air Act or EPA's regulations implementing the Clean Air Act. For purposes of this paragraph (i):

Ammonia injection shall include any of the following: Anhydrous ammonia, aqueous ammonia, or urea injection.

Continuous emission monitoring system or CEMS means the equipment required by this section to sample, analyze, measure, and provide, by means of readings recorded at least once every 15 minutes (using an automated data acquisition and handling system (DAHS)), a permanent record of NOX emissions, SO2 emissions, diluent, and stack gas volumetric flow rate.

Kiln means either of the kilns identified in paragraph (i)(1) of this section.

Kiln 1 means lime kiln 1, as identified in paragraph (i)(1) of this section.

Kiln 2 means lime kiln 2, as identified in paragraph (i)(1) of this section.

Kiln operating day means a 24-hour period between 12 midnight and the following midnight during which there is operation of Kiln 1, Kiln 2, or both kilns at any time.

Kiln operation means any period when any raw materials are fed into the Kiln or any period when any combustion is occurring or fuel is being fired in the Kiln.

Lime product means the product of the lime-kiln calcination process, including calcitic lime, dolomitic lime, and dead-burned dolomite.

NOX means oxides of nitrogen.

Owner/operator means any person who owns or who operates, controls, or supervises a kiln identified in paragraph (i)(1) of this section.

SO2 means sulfur dioxide.

(3) Emission limitations. (i) The owner/operator of the kilns identified in paragraph (i)(1) of this section shall not emit or cause to be emitted pollutants in excess of the following limitations in pounds of pollutant per ton of lime product (lb/ton), from any kiln. Each emission limit shall be based on a 12-month rolling basis.

Pollutant Emission Limit
Kiln ID | NOX | SO2
Kiln 1 | 3.80 | 9.32
Kiln 2 | 2.61 | 9.73

(ii) The owner/operator of the kilns identified in paragraph (i)(1) of this section shall not emit or cause to be emitted pollutants in excess of 3.27 tons of NOX per day and 10.10 tons of SO2 per day, combined from both kilns, based on a rolling 30-kiln-operating-day basis.

(4) Compliance dates. (i) The owner/operator of each kiln shall comply with the NOX emission limitations and other NOX-related requirements of this paragraph (i) no later than September 4, 2017.

(ii) The owner/operator of each kiln shall comply with the SO2 emission limitations and other SO2-related requirements of this paragraph (i) no later than March 3, 2016.

(5) [Reserved]

(6) Compliance determination—(i) Continuous emission monitoring system. At all times after the compliance dates specified in paragraph (i)(4) of this section, the owner/operator of kilns 1 and 2 shall maintain, calibrate, and operate a CEMS, in full compliance with the requirements found at 40 CFR 60.13 and 40 CFR part 60, appendices B and F, to accurately measure diluent, stack gas volumetric flow rate, and concentration by volume of NOX and SO2 emissions into the atmosphere from kilns 1 and 2. The CEMS shall be used by the owner/operator to determine compliance with the emission limitations in paragraph (i)(3) of this section, in combination with data on actual lime production. The owner/operator must operate the monitoring system and collect data at all required intervals at all times that an affected kiln is operating, except for periods of monitoring system malfunctions, repairs associated with monitoring system malfunctions, and required monitoring system quality assurance or quality control activities (including, as applicable, calibration checks and required zero and span adjustments).

(ii) Ammonia consumption monitoring. Upon and after the completion of installation of ammonia injection on a kiln, the owner or operator shall install, and thereafter maintain and operate, instrumentation to continuously monitor and record levels of ammonia consumption for that kiln.

(iii) Compliance determination for lb per ton NOX limit. Compliance with the NOX emission limits described in paragraph (i)(3)(i) of this section shall be determined based on a rolling 12-month basis. The 12-month rolling NOX emission rate for each kiln shall be calculated within 30 days following the end of each calendar month in accordance with the following procedure: Step one, sum the hourly pounds of NOX emitted for the month just completed and the eleven (11) months preceding the month just completed to calculate the total pounds of NOX emitted over the most recent twelve (12) month period for that kiln; Step two, sum the total lime product, in tons, produced during the month just completed and the eleven (11) months preceding the month just completed to calculate the total lime product produced over the most recent twelve (12) month period for that kiln; Step three, divide the total amount of NOX calculated from Step one by the total lime product calculated from Step two to calculate the 12-month rolling NOX emission rate for that kiln. Each 12-month rolling NOX emission rate shall include all emissions and all lime product that occur during all periods within the 12-month period, including emissions from startup, shutdown, and malfunction.

(iv) Compliance determination for lb per ton SO2 limit. Compliance with the SO2 emission limits described in paragraph (i)(3)(i) of this section shall be determined based on a rolling 12- month basis. The 12-month rolling SO2 emission rate for each kiln shall be calculated within 30 days following the end of each calendar month in accordance with the following procedure: Step one, sum the hourly pounds of SO2 emitted for the month just completed and the eleven (11) months preceding the month just completed to calculate the total pounds of SO2 emitted over the most recent twelve (12) month period for that kiln; Step two, sum the total lime product, in tons, produced during the month just completed and the eleven (11) months preceding the month just completed to calculate the total lime product produced over the most recent twelve (12) month period for that kiln; Step three, divide the total amount of SO2 calculated from Step one by the total lime product calculated from Step two to calculate the 12-month rolling SO2 emission rate for that kiln. Each 12-month rolling SO2 emission rate shall include all emissions and all lime product that occur during all periods within the 12-month period, including emissions from startup, shutdown, and malfunction.

(v) Compliance determination for ton per day NOX limit. Compliance with the NOX emission limit described in paragraph (i)(3)(ii) of this section shall be determined based on a rolling 30-kiln-operating-day basis. The rolling 30-kiln operating day NOX emission rate for the kilns shall be calculated for each kiln operating day in accordance with the following procedure: Step one, sum the hourly pounds of NOX emitted from both kilns for the current kiln operating day and the preceding twenty-nine (29) kiln-operating-day period for both kilns; Step two, divide the total pounds of NOX calculated from Step one by two thousand (2,000) to calculate the total tons of NOX; Step three, divide the total tons of NOX calculated from Step two by thirty (30) to calculate the rolling 30-kiln operating day NOX emission rate for both kilns. Each rolling 30-kiln operating day NOX emission rate shall include all emissions that occur from both kilns during all periods within any kiln operating day, including emissions from startup, shutdown, and malfunction.

(vi) Compliance determination for ton per day SO2 limit. Compliance with the SO2 emission limit described in paragraph (i)(3)(ii) of this section shall be determined based on a rolling 30- kiln-operating-day basis. The rolling 30-kiln operating day SO2 emission rate for the kilns shall be calculated for each kiln operating day in accordance with the following procedure: Step one, sum the hourly pounds of SO2 emitted from both kilns for the current kiln operating day and the preceding twenty-nine (29) kiln operating days, to calculate the total pounds of SO2 emitted over the most recent thirty (30) kiln operating day period for both kilns; Step two, divide the total pounds of SO2 calculated from Step one by two thousand (2,000) to calculate the total tons of SO2; Step three, divide the total tons of SO2 calculated from Step two by thirty (30) to calculate the rolling 30-kiln operating day SO2 emission rate for both kilns. Each rolling 30-kiln operating day SO2 emission rate shall include all emissions that occur from both kilns during all periods within any kiln operating day, including emissions from startup, shutdown, and malfunction.

(7) Recordkeeping. The owner/operator shall maintain the following records for at least five years:

(i) All CEMS data, including the date, place, and time of sampling or measurement; parameters sampled or measured; and results.

(ii) All records of lime production.

(iii) Monthly rolling 12-month emission rates of NOX and SO2, calculated in accordance with paragraphs (i)(6)(iii) and (iv) of this section.

(iv) Daily rolling 30-kiln operating day emission rates of NOX and SO2 calculated in accordance with paragraphs (i)(6)(v) and (vi) of this section.

(v) Records of quality assurance and quality control activities for emissions measuring systems including, but not limited to, any records specified by 40 CFR part 60, appendix F, Procedure 1, as well as the following:

(A) The occurrence and duration of any startup, shutdown, or malfunction, performance testing, evaluations, calibrations, checks, adjustments maintenance, duration of any periods during which a CEMS or COMS is inoperative, and corresponding emission measurements.

(B) Date, place, and time of measurement or monitoring equipment maintenance activity;

(C) Operating conditions at the time of measurement or monitoring equipment maintenance activity;

(D) Date, place, name of company or entity that performed the measurement or monitoring equipment maintenance activity and the methods used; and

(E) Results of the measurement or monitoring equipment maintenance.

(vi) Records of ammonia consumption, as recorded by the instrumentation required in paragraph (i)(6)(ii) of this section.

(vii) Records of all major maintenance activities conducted on emission units, air pollution control equipment, CEMS, and lime production measurement devices.

(viii) All other records specified by 40 CFR part 60, appendix F, Procedure 1.

(8) Reporting. All reports required under this section shall be submitted by the owner/operator to the Director, Enforcement Division, U.S. Environmental Protection Agency, Region 9, electronically via email to aeo_r9@epa.gov. Any data that are required under this section shall be submitted in Excel format. Reports required under paragraphs (i)(8)(iii) through (i)(8)(v) of this section shall be submitted within 30 days after the applicable compliance date(s) in paragraph (i)(4) of this section and at least semiannually thereafter, within 30 days after the end of a semiannual period. The owner/operator may submit reports more frequently than semiannually for the purposes of synchronizing reports required under this section with other reporting requirements, such as the title V monitoring report required by 40 CFR 70.6(a)(3)(iii)(A), but at no point shall the duration of a semiannual period exceed six months.

(i) Prior to commencing construction of the ammonia injection system, the owner/operator shall submit to EPA a summary report of the design of the SNCR system. Elements of this summary report shall include: Reagent type, description of the locations selected for reagent injection, reagent injection rate (expressed as a molar ratio of reagent to NOX), equipment list, equipment arrangement, and a summary of kiln characteristics that were relied upon as the design basis for the SNCR system.

(ii) By October 3, 2017, the owner/operator shall submit to EPA a summary of any process improvement or debugging activities that were performed on the SNCR system. Elements of this summary report shall include: A description of each process adjustment performed on the SNCR system, a discussion of whether the adjustment affected NOX emission rate (including CEMS data that may have been recorded while the adjustment was in progress), a description of the range (if applicable) over which the adjustment was examined, and a discussion of how the adjustment will be reflected or accounted for in kiln operating practices. In addition, to the extent that the owner/operator evaluates the impact of varying reagent injection rate on NOX emissions, the owner/operator shall include the following information: The range of reagent injection rates evaluated (expressed as a molar ratio of reagent to average NOX concentration), reagent injection rate, average NOX concentration, lime production rate, kiln flue gas temperature, and the presence of any detached plumes from the kiln exhaust.

(iii) The owner/operator shall submit a report that lists the daily rolling 30-kiln operating day emission rates for NOX and SO2, calculated in accordance with paragraphs (i)(6)(iii) and (iv) of this section.

(iv) The owner/operator shall submit a report that lists the monthly rolling 12-month emission rates for NOX and SO2, calculated in accordance with paragraphs (i)(6)(v) and (vi) of this section.

(v) The owner/operator shall submit excess emissions reports for NOX and SO2 limits. Excess emissions means emissions that exceed any of the emissions limits specified in paragraph (i)(3) of this section. The reports shall include the magnitude, date(s), and duration of each period of excessemissions; specific identification of each period of excess emissions that occurs during startups, shutdowns, and malfunctions of the kiln; the nature and cause of any malfunction (if known); and the corrective action taken or preventative measures adopted.

(vi) The owner/operator shall submit a summary of CEMS operation, to include dates and duration of each period during which the CEMS was inoperative (except for zero and span adjustments and calibration checks), reason(s) why the CEMS was inoperative and steps taken to prevent recurrence, and any CEMS repairs or adjustments.

(vii) The owner/operator shall submit results of all CEMS performance tests required by 40 CFR part 60, Appendix F, Procedure 1 (Relative Accuracy Test Audits, Relative Accuracy Audits, and Cylinder Gas Audits).

(viiii) When no excess emissions have occurred or the CEMS has not been inoperative, repaired, or adjusted during the reporting period, the owner/operator shall state such information in the semiannual report.

(9) Notifications. All notifications required under this section shall be submitted by the owner/operator to the Director, Enforcement Division (Mail Code ENF-2-1), U.S. Environmental Protection Agency, Region 9, 75 Hawthorne Street, San Francisco, California 94105-3901.

(i) The owner/operator shall submit notification of commencement of construction of any equipment which is being constructed to comply with the NOX emission limits in paragraph (i)(3) of this section.

(ii) The owner/operator shall submit semiannual progress reports on construction of any such equipment.

(iii) The owner/operator shall submit notification of initial startup of any such equipment.

(10) Equipment operations. (i) At all times, including periods of startup, shutdown, and malfunction, the owner/operator shall, to the extent practicable, maintain and operate the kilns, including associated air pollution control equipment, in a manner consistent with good air pollution control practices for minimizing emissions. Pollution control equipment shall be designed and capable of operating properly to minimize emissions during all expected operating conditions. Determination of whether acceptable operating and maintenance procedures are being used will be based on information available to the Regional Administrator, which may include, but is not limited to, monitoring results, review of operating and maintenance procedures, and inspection of the kilns.

(ii) After completion of installation of ammonia injection on a kiln, the owner/operator shall inject sufficient ammonia to achieve compliance with the NOX emission limits from paragraph (i)(3) of this section for that kiln while preventing excessive ammonia emissions.

(11) Enforcement. Notwithstanding any other provision in this implementation plan, any credible evidence or information relevant as to whether the kiln would have been in compliance with applicable requirements if the appropriate performance or compliance test had been performed can be used to establish whether or not the owner/operator has violated or is in violation of any standard or applicable emission limit in the plan.

[FR Doc. 2015-00328 Filed 1-12-15; 8:45 am]

BILLING CODE 6560-50-P